DEPARTMENT OF COMMERCE

International Trade Administration

Overseas Trade Missions

AGENCY: International Trade Administration, Department of Commerce.

ACTION: Notice.

SUMMARY: The Department of Commerce invites U.S. companies to participate in the below listed overseas trade mission. For a more complete description, obtain a copy of the mission statement from the Project Officer indicated below.

Electronic Russia Business Development Mission to Moscow

October 22-25, 2002

Recruitment closes on September 23, 2002.

For further information contact: Mr. Jon Boyens, U.S. Department of Commerce, telephone 202-482-0573, or e-mail Jon_Boyens@ita.doc.gov.

Recruitment and selection of private sector participants for the trade mission will be conducted according to the Statement of Policy Governing Department of Commerce Overseas Trade Missions dated March 3, 1997.

For further information contact: Mr. Thomas Nisbet, U.S. Department of Commerce. Telephone 202-482-5657, or e-mail Tom_Nisbet@ita.doc.gov.

Dated: August 21, 2002.
Thomas H. Nisbet,
Director, Export Promotion Coordination, Office of Planning, Coordination and Management.

[FR Doc. 02-21821 Filed 8-27-02; 8:45 am]

BILLING CODE 3510-DR-P